DEPARTMENT OF HOMELAND SECURITY

Federal Emergency Management Agency

[Docket ID: FEMA-2023-0036; OMB No. 1660-0033]

Agency Information Collection Activities: Submission for OMB Review, Comment Request; Residential Basement Floodproofing Certificate

AGENCY: Federal Emergency Management Agency, Department of Homeland Security.

ACTION: 30-Day notice of extension and request for comments.

SUMMARY: The Federal Emergency Management Agency (FEMA) will submit the information collection abstracted below to the Office of Management and Budget for review and clearance in accordance with the requirements of the Paperwork Reduction Act of 1995. FEMA invites the general public to take this opportunity to comment on an extension of a currently approved information collection. In accordance with the requirements of the Paperwork Reduction Act of 1995, this notice seeks comments concerning information collected for eligible properties insured under the National Flood Insurance Program (NFIP) policies to certify the floodproofing of residential basements.

DATES: Comments must be submitted on or before June 3, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Joycelyn Collins, Underwriting Branch Program Analyst, Federal Insurance Directorate, by email at Joycelyn.Collins@fema.dhs.gov or by telephone at (202) 701-3383.

SUPPLEMENTARY INFORMATION: The National Flood Insurance Program (NFIP) is authorized by the National Flood Insurance Act of 1968 (90-448, title XIII) and expanded by the Flood Disaster Protection Act of 1973 (93-234) and requires that FEMA provide flood insurance. FEMA delineates flood zones on a Flood Insurance Rate Map to identify Special Flood Hazard Areas (SFHAs) in a community. 44 CFR 60.3(c)(2) requires that all new construction and substantial improvements of residential structures within SFHA Zones A1-30, AE, AH, and AO zones have the lowest floor, including the basement, elevated to or above the base flood level unless a community-wide exception or site-specific variance is granted. 44 CFR 60.6(a)(7) and 44 CFR 60.6(b)(1) allow communities to apply for an exception when circumstances present a hardship that would not allow for adherence to the requirement for elevation above the base flood level. Exceptions granted under 44 CFR 60.6(c) must meet the conditions specified in the regulation. When owners of residential structures in these zones are seeking flood insurance, they must be certified that the structural design is floodproof.

This proposed information collection previously published in the Federal Register on January 31, 2024, at 89 FR 6124 with a 60-day public comment period. One public comment was received, and it did not specifically address the proposed extension of the collection of information on residential basements insured under the NFIP, or otherwise provide information relevant to the Notice. FEMA determined that no change in FEMA's proposed extension of the information collection related to residential basements is required. The purpose of this notice is to notify the public that FEMA will submit the information collection abstracted below to the Office of Management and Budget for review and clearance.

Collection of Information

Title: Residential Basement Floodproofing Certificate.

Type of Information Collection: Extension of a currently approved information collection.

OMB Number: 1660-0033.

FEMA Forms: FEMA Form FF-206-FY-21-122 (formerly 086-0-24), Residential Basement Floodproofing Certificate.

Abstract: The Residential Basement Floodproofing Certificate is required to certify that floodproofing of a structure in communities approved for Residential Basement floodproofing meets at least minimal floodproofing specifications. Residential structures that receive this certification are granted a discount on flood insurance premiums.

Affected Public: Business or other for-profit.

Estimated Number of Respondents: 10.

Estimated Number of Responses: 10.

Estimated Total Annual Burden Hours: 25.

Estimated Total Annual Respondent Cost: $1,763.

Estimated Respondents' Operation and Maintenance Costs: $5,000.

Estimated Respondents' Capital and Start-Up Costs: $0.

Estimated Total Annual Cost to the Federal Government: $191.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-09539 Filed 5-1-24; 8:45 am]

BILLING CODE 9111-52-P